DEPARTMENT OF LABOR

Employment and Training Administration

[TA-W-60,876B]

Armstrong Wood Products, Inc., Armstrong Hardwood Flooring Company, Pattern Plus Flooring Department; Oneida, TN; Notice of Affirmative Determination Regarding Application for Reconsideration

On April 13, 2007, the U.S. Department of Labor (Department) received a request for administrative reconsideration of the Department's Notice of Negative Determination Regarding Eligibility to Apply for Worker Adjustment Assistance, applicable to workers and former workers of the subject firm. The negative determination was issued on March 28, 2007. The Department's Notice of determination was published in the Federal Register on April 10, 2007 (72 FR 17937).

The negative determination was based on the Department's findings that, during the relevant period, the subject firm did not import pattern plus flooring, the subject firm did not shift production of pattern plus flooring overseas, and the subject firm's customers did not import pattern plus flooring.

In the request for reconsideration, the workers alleged that the subject firm imported pattern plus flooring and provided a copy of a shipping label for hardwood flooring made in China which was, allegedly, received by the subject firm.

The Department has carefully reviewed the workers' request for reconsideration and has determined that the Department will conduct further investigation.

Conclusion

After careful review of the application, I conclude that the claim is of sufficient weight to justify reconsideration of the U.S. Department of Labor's prior decision. The application is, therefore, granted.

Signed at Washington, DC, this 2nd day of May 2007.
Elliott S. Kushner,
Certifying Officer, Division of Trade Adjustment Assistance.

[FR Doc. E7-8827 Filed 5-8-07; 8:45 am]

BILLING CODE 4510-FN-P